DEPARTMENT OF ENERGY

Federal Energy Regulatory Commission

Notice of Offer of Settlement, Application for Surrender of License, and Soliciting Comments, Motions To Intervene, and Protests

June 26, 2003.

Take notice that the following offer of settlement and application for surrender of license has been filed with the Commission and is available for public inspection:

a. Application Type: Offer of Settlement and Surrender of License ¹.

¹ See PacifiCorp, 97 FERC ¶ 61,348 (2001).

b. Project No.: P-2659-011 and -016.

c. Date Filed: June 16, 2003.

d. Applicant: PacifiCorp.

e. Name of Project: Powerdale Hydroelectric Project.

f. Location: On the Hood River, near the town of Hood River, in Hood River County, Oregon. The project boundary does not occupy any federal lands of the United States.

g. Filed Pursuant to: Rule 602 of the Commission's Rules of Practice and Procedure, 18 CFR 385.602 and Federal Power Act, 16 U.S.C. 791(a)-825(r).

h. Applicant Contact: David Leonhardt, Project Manager, PacifiCorp 825 NE Multnomah, Suite 1500, Portland, Oregon, 97232 (503) 813-6658.

i. FERC Contact: Bob Easton (202) 502-6045, e-mail at robert.easton@ferc.gov.

j. Cooperating agencies: We are asking federal, state, local, and tribal agencies with jurisdiction and/or special expertise with respect to environmental issues to cooperate with us in the preparation of the environmental document. Agencies who would like to request cooperating status should follow the instructions for filing documents described in item k below.

k. Deadlines: Comments, motions to intervene, and protests are due 30 days from the issuance date of this notice. Reply comments are due 40 days from the issuance date of this notice.

All documents (original and eight copies) should be filed with: Magalie R. Salas, Secretary, Federal Energy Regulatory Commission, 888 First Street, NE., Washington, DC 20426. Comments, motions to intervene, protests, and requests for cooperating agency status may be filed electronically via the Internet in lieu of paper. See 18 CFR 385.2001(a)(1)(iii) and the instructions on the Commission's Web site (http://www.ferc.gov ) under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. PacifiCorp filed an offer of settlement and an application to surrender its major license for the Powerdale Hydroelectric Project. PacifiCorp filed the settlement on behalf of itself and the American Rivers, Confederated Tribes of the Warm Springs Reservation of Oregon, Hood River Watershed Group, National Marine Fisheries Service, Oregon Department of Environmental Quality, Oregon Department of Fish and Wildlife, Oregon Water Resources Department, and United States Fish and Wildlife Service. Under the terms of the settlement and as proposed in the surrender application, PacifiCorp would continue operation of the project through April 2010, at which time they would begin decommissioning the project, with completion by February 2012. Operations during the interim period (i.e., prior to decommissioning) would include: (1) Implementing ramping rates; (2) maintaining increased minimum flows; (3) monitoring stream temperatures; (4) reducing diversions to approximately 25 cubic feet per second from April 15 to June 30 each year; (5) restricting the times when the sand settling basin would be flushed; and, (6) various other reporting, maintenance, or facility upgrade commitments. Decommissioning the project would involve: (1) removal of the diversion dam and associated structures; (2) removal of sections of the water conveyance system; (3) removal of the fish ladder and the sorting and collection facility; and, (4) securing the project powerhouse which would be left in place.

m. A copy of the application is on file with the Commission and is available for public inspection. This filing may also be viewed on the Web at http://www.ferc.gov using the “FERRIS” link—select “Docket #” and follow the instructions. For assistance, contact FERC Online Support at FERCOnlineSupport@ferc.gov or toll-free at 1-866-208-3676, or for TTY, (202) 502-8659. A copy is also available for inspection and reproduction at the address in item h above. To facilitate the subject surrender, the Commission will incorporate into the record for this proceeding, all documents filed with or issued by the Commission as part of the relicensing proceeding (P-2659-011).

n. With this notice, we are initiating consultation with the State Historic Preservation Officer as required by § 106, National Historic Preservation Act, and the regulations of the Advisory Council on Historic Preservation, 36 CFR at § 800.4.

o. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Magalie R. Salas,
Secretary.

[FR Doc. 03-16747 Filed 7-2-03; 8:45 am]

BILLING CODE 6717-01-P